NATIONAL AERONAUTICS AND SPACE ADMINISTRATION

[Notice 06-016]

National Environmental Policy Act; Mars Science Laboratory Mission

AGENCY: National Aeronautics and Space Administration (NASA).

ACTION: Notice of intent to prepare an environmental impact statement and to conduct scoping for the Mars Science Laboratory mission.

SUMMARY: Pursuant to the National Environmental Policy Act of 1969, as amended (NEPA) (42 U.S.C. 4321, et seq.), the Council on Environmental Quality (CEQ) Regulations for Implementing the Procedural Provisions of NEPA (40 CFR parts 1500-1508), and NASA policy and procedures (14 CFR part 1216 subpart 1216.3), NASA intends to conduct scoping and prepare an environmental impact statement (EIS) for the Mars Science Laboratory (MSL) mission. The purpose of this proposed mission would be to place a mobile science laboratory (rover) on the surface of Mars to assess the biological potential of at least one target environment, characterize the geology of the landing region, investigate planetary processes of relevance to past habitability, including the role of water, and characterize the broad spectrum of the surface radiation environment.

The proposed MSL mission is currently planned for launch during September or October 2009 from Cape Canaveral Air Force Station (CCAFS), Florida, onboard an expendable launch vehicle from either the Atlas V or Delta IV class of vehicles. The baseline mission plan would include the use of one multi-mission radioisotope thermoelectric generator (MMRTG) for rover electrical power and could use several radioisotope heater units (RHUs) for thermal control of critical rover components while on the surface of Mars. Some science instruments may require the use of very small quantities of radioactive material for instrument calibration or for the conduct of an experiment. Environmental impacts to be considered in the EIS are those impacts associated with a normal launch from CCAFS, and radiological and non-radiological risks associated with a launch accident.

DATES: Interested parties are invited to submit comments on environmental concerns in writing on or before April 24, 2006 to assure full consideration during the scoping process.

ADDRESSES: Written comments should be addressed to Mr. Mark R. Dahl, Solar System Division, Science Mission Directorate, Mail Suite 3X63, NASA Headquarters, Washington, DC 20546-0001. While hard copy comments are preferred, comments by electronic mail may be sent to mep.nepa@hq.nasa.gov.

FOR FURTHER INFORMATION CONTACT: Mark R. Dahl, by telephone at 202-358-4800 or by electronic mail at mep.nepa@hq.nasa.gov.

SUPPLEMENTARY INFORMATION: NASA seeks to continue scientific investigations of Mars with a long-term landed mission to explore the planet's surface. On April 12, 2005, in the Federal Register (70 FR 19102), NASA published the Notice of Availability for Final Programmatic EIS (PEIS) for the Mars Exploration Program (MEP). The Record of Decision (ROD) for the MEP PEIS was signed on June 22, 2005, enabling continued planning for the MEP, which represents NASA's overall plans for the robotic exploration of Mars through 2020. The PEIS for the MEP encompasses the launch of at least one spacecraft to Mars during each favorable launch opportunity, which occurs approximately every 26 months, including the MSL mission currently proposed for the 2009 launch opportunity. The MSL EIS will focus on reasonable alternatives to implement the purpose and need of the MSL mission and the potential environmental impacts associated with each.

It is anticipated that the electrical requirements of the landed mission would require a radioisotope power source. This mission is proposing to use a single MMRTG to provide adequate power to operate the rover. As currently envisioned, some of the waste heat from the MMRTG could be used for temperature control of the rover electronics, science instruments, and other sensitive components. This waste heat may need to be supplemented with several RHUs.

Alternatives to the Proposed Action addressed in this EIS will include, but are not limited to, (1) the use of alternative sources of on-board power and heat (including solar energy); and (2) the No Action Alternative.

Building on the success of the two rovers that arrived at Mars in January 2004, NASA's proposed MSL mission is being planned for travel to Mars before the end of the decade. Larger than the Mars Exploration Rovers Spirit and Opportunity, the Mars Science Laboratory would analyze martian soil samples and rock cores for organic compounds and environmental conditions that could support microbial life now or in the past. The mission is anticipated to have international participation, including the Russian Federal Space Agency, the Spanish Ministry of Education and Science, the Canadian Space Agency, and the French Space Agency.

Mars Science Laboratory is intended to use a guided landing technique, steering itself toward the martian surface. As currently envisioned, in the final minutes before touchdown, the spacecraft would activate its parachute and retro rockets before lowering the rover package to the surface on a tether. This landing method would enable the rover to land in an area 20 kilometers (12 miles) in diameter, three to five times smaller than previous landing zones on Mars.

Like the Spirit and Opportunity rovers now on the surface of Mars, MSL would have six wheels and cameras mounted on a mast. MSL would have additional capability to collect and crush rock and soil samples and distribute them to on-board test chambers for detailed chemical analysis. Its design would include a suite of scientific instruments for identifying organic compounds such as proteins, amino acids, and other acids and bases that form complex carbon compounds and are essential to life as we know it. It could also identify features such as atmospheric gases that may be associated with biological activity.

Using these tools, MSL would examine martian rocks and soils in greater detail than ever before to determine the geologic processes that formed them; study the martian atmosphere; and determine the distribution and circulation of water and carbon dioxide, whether frozen, liquid, or gaseous.

NASA plans to select a landing site on the basis of highly detailed images sent to Earth by the Mars Reconnaissance Orbiter beginning in the fall of 2006, in addition to data from earlier missions.

The MSL EIS will address the purpose and need for the proposed MSL mission in detail and the environmental impacts associated with its implementation. The environmental impacts of this mission are anticipated to be those associated with the normal launch of the mission. Potential consequences of accident situations will also be addressed. Environmental issues to be addressed will include, but not necessarily be limited to air quality, radiological effects, water quality, and flora and fauna.

Written public input and comments on alternatives and potential environmental impacts and concerns associated with the proposed Mars Science Laboratory mission are hereby requested.

Olga M. Dominguez,
Acting Assistant Administrator for Infrastructure and Administration.

[FR Doc. E6-3374 Filed 3-9-06; 8:45 am]

BILLING CODE 7510-13-P